DEPARTMENT OF LABOR

Employment and Training Administration

[TA-W-38,705]

Empire Specialty Steel Corp., Dunkirk, NY; Notice of Termination of Investigation

Pursuant to section 221 of the Trade Act of 1974, an investigation was initiated on February 20, 2001, in response to a petition filed by the United Steelworkers of America, Local 2693, on the same date on behalf of workers at Empire Specialty Steel Corp., Dunkirk, New York.

A certification applicable to the petitioning group of workers, employed at Al Tech Specialty Steel Corporation, Dunkirk, New York, was issued on June 18, 1999, and is currently in effect (TA-W-35,786). Empire Specialty Steel Corp. is a successor firm to Al Tech Specialty Steel Corporation and the certification applicable to workers of Al Tech Specialty Steel is also valid for workers of Empire Specialty Steel. The certification remains in effect until June 18, 2001. Consequently, further investigation in this case would serve no purpose, and the investigation has been terminated.

Signed in Washington, D.C. this 8th day of March, 2001.
Linda G. Poole,
Certifying Officer, Division of Trade Adjustment Assistance.

[FR Doc. 01-8327 Filed 4-4-01; 8:45 am]

BILLING CODE 4510-30-M